FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted April 1, 2020 Thru April 30, 2020
04/01/2020
20200717 | G | Harsco Corporation; Stericycle, Inc.; Harsco Corporation.
20200760 | G | BorgWarner Inc.; Delphi Technologies PLC; BorgWarner Inc.
20200837 | G | ITC Rumba, LLC; Robert Camerlinck; ITC Rumba, LLC.
20200853 | G | TPG Partners VIII, L.P.; TA XI L.P.; TPG Partners VIII, L.P.
04/02/2020
20200859 | G | Franklin Resources, Inc.; Legg Mason, Inc.; Franklin Resources, Inc.
20200860 | G | Thompson Street Capital Partners V, L.P.; Novacap Technologies III, L.P.; Thompson Street Capital Partners V, L.P.
20200864 | G | WP GG Investments Holdings Cooperatief U.A.; FPCI MED I; WP GG Investments Holdings Cooperatief U.A.
20200869 | G | AEA Investors Fund VII LP; Oaktree Power Opportunties Fund IV, L.P.; AEA Investors Fund VII LP.
04/03/2020
20200874 | G | Biogen, Inc.; Sangamo Therapeutics, Inc.; Biogen, Inc.
20200875 | G | Vertical Topco S.a.r.l.; thyssenkrupp AG; Vertical Topco S.a.r.l.
20200878 | G | Cornell Capital Partners, LP; Cal-Tex Protective Coatings, Incorporated; Cornell Capital Partners, LP.
20200879 | G | Temasek Holdings (Private) Limited; Flywire Corporation; Temasek Holdings (Private) Limited.
20200880 | G | Blackstone Capital Partners VII L.P.; HealthEdge Software, Inc.; Blackstone Capital Partners VII L.P.
04/06/2020
20200873 | G | Owl Creek Overseas Fund, Ltd.; Anterix Inc.; Owl Creek Overseas Fund, Ltd.
20200881 | G | Insight Venture Partners (Cayman) VII, L.P.; Udemy, Inc.; Insight Venture Partners (Cayman) VII, L.P.
20200884 | G | Trust 463; NW Synergy Holdings, LLC; Trust 463.
20200886 | G | Compass Diversified Holdings; Marucci Sports, LLC; Compass Diversified Holdings.
20200887 | G | Charles and Randi Wax; John Miller; Charles and Randi Wax.
20200888 | G | David and Sharon Wax; John Miller; David and Sharon Wax.
20200889 | G | John Miller; Charles and Randi Wax; John Miller.
20200890 | G | John Miller; David and Sharon Wax; John Miller.
20200927 | G | US Foods Holding Corp.; AP IX First Street Holdings, L.P.; US Foods Holding Corp.
04/07/2020
20200894 | G | Markel Corporation; J. Christopher Lansing; Markel Corporation.
20200895 | G | Stockbridge Fund, L.P.; TransDigm Group Incorporated; Stockbridge Fund, L.P.
20200896 | G | Berkshire Fund VIII-A, L.P.; TransDigm Group Incorporated; Berkshire Fund VIII-A, L.P.
20200897 | G | Markel Corporation; Dunes Point Capital Investment Partners I-B, LLC; Markel Corporation.
20200900 | G | Berkshire Fund VIII, L.P.; TransDigm Group Incorporated; Berkshire Fund VIII, L.P.
20200901 | G | Berkshire Fund IX-A, L.P.; TransDigm Group Incorporated; Berkshire Fund IX-A, L.P.
20200902 | G | Berkshire Fund IX, L.P.; TransDigm Group Incorporated; Berkshire Fund IX, L.P.
04/08/2020
20200892 | G | Mitchell Topco Holdings, Inc.; CVS Health Corporation; Mitchell Topco Holdings, Inc.
20200898 | G | Stockbridge Fund, L.P.; Advanced Drainage Systems, Inc.; Stockbridge Fund, L.P.
20200899 | G | KKR Banff Aggregator L.P.; Compuware Software Group, LLC; KKR Banff Aggregator L.P.
20200903 | G | Energy Capital Partners IV-D, LP; CenterPoint Energy, Inc.; Energy Capital Partners IV-D, LP.
20200904 | G | VectoIQ Acquisition Corp.; Nikola Corporation; VectoIQ Acquisition Corp.
20200913 | G | Mr. Dmitry A. Mazepin; PJSC Uralkali; Mr. Dmitry A. Mazepin.
04/09/2020
20200919 | G | Fox Corporation; Tubi, Inc.; Fox Corporation
20200920 | G | Donald M. Berman; Ally Financial Inc.; Donald M. Berman.
20200921 | G | Ally Financial Inc.; Donald M. Berman; Ally Financial Inc.
20200922 | G | HDC Hyundai Development Company; Asiana Airlines, Inc.; HDC Hyundai Development Company.
20200926 | G | Firmenich International SA; Ardian LBO Fund VI B S.L.P.; Firmenich International SA.
04/10/2020
20200933 | G | San Vicente Holdings LLC; Beijing Kunlun Tech Co., Ltd.; San Vicente Holdings LLC.
20200935 | G | The Veritas Capital Fund VII, L.P.; DXC Technology Company; The Veritas Capital Fund VII, L.P.
20200938 | G | Colliers International Group Inc.; Maser Consulting, Inc.; Colliers International Group Inc.
20200940 | G | Neste Oyj; The Ruth A. Mahoney Irrevocable Gift Trust; Neste Oyj.
20200962 | G | Air Products and Chemicals, Inc.; PBF Energy Inc.; Air Products and Chemicals, Inc.
04/13/2020
20200937 | G | Temasek Holdings (Private) Limited; Impossible Foods Inc.; Temasek Holdings (Private) Limited.
20200942 | G | Hellman & Friedman Capital Partners IX, LP.; Checkmarx Ltd.; Hellman & Friedman Capital Partners IX, LP.
20200944 | G | Giovanni Agnelli B.V.; Via Transportation, Inc.; Giovanni Agnelli B.V.
20200945 | G | ProSiebenSat.1 Media SE; The Meet Group, Inc.; ProSiebenSat.1 Media SE.
20200946 | G | CarePathRx Holding Company, LLC; BioPlus Specialty Pharmacy Services Holdings, Inc.; CarePathRx Holding Company, LLC.
04/14/2020
20200948 | G | Institutional Venture Partners XVI, L.P.; HashiCorp, Inc.; Institutional Venture Partners XVI, L.P.
20200949 | G | Mining Parent Holdco, Inc.; Murray Energy Holdings Co.; Mining Parent Holdco, Inc.
20200951 | G | LS Power Equity Partners III, L.P.; Public Service Enterprise Group Inc.; LS Power Equity Partners III, L.P.
20200954 | G | Palo Alto Networks, Inc.; CloudGenix, Inc.; Palo Alto Networks, Inc.
20200955 | G | Schneider Electric SE; RIB Software; Schneider Electric SE.
04/15/2020
20200961 | G | U.S. Bancorp; State Farm Mutual Automobile Ins. Co.; U.S. Bancorp.
20200963 | G | Madison Dearborn Capital Partners VI-A, L.P.; EVO Payments, Inc.; Madison Dearborn Capital Partners VI-A, L.P.
20200964 | G | Dr. William Fung; Li & Fung Limited; Dr. William Fung.
20200965 | G | Victor Trust; Li & Fung Limited; Victor Trust.
20200966 | G | WaterBridge Equity Finance LLC; Centennial Resource Development, Inc.; WaterBridge Equity Finance LLC.
20200967 | G | The Rise Fund (A), L.P.; RefleXion Medical, Inc.; The Rise Fund (A), L.P.
04/20/2020
20200969 | G | ES Parent, L.P.; Holdings LLC; ES Parent, L.P.
20200971 | G | OfferUp Inc.; Naspers Limited; OfferUp Inc.
20200972 | G | Naspers Limited; OfferUp Inc.; Naspers Limited.
20200981 | G | MH Parent, LLC; New Millennium Holdco, Inc.; MH Parent, LLC.
20200982 | G | Social Finance, Inc.; Thomas Clayton and Marie Peterson Wilkes; Social Finance, Inc.
20200983 | G | Thomas Clayton and Marie Peterson Wilkes; Social Finance, Inc.; Thomas Clayton and Marie Peterson Wilkes.
04/21/2020
20200984 | G | MaxLinear, Inc.; Intel Corporation; MaxLinear, Inc.
04/22/2020
20200814 | G | AIPCF VI Stone Cayman AIV, LP; GATX Corporation; AIPCF VI Stone Cayman AIV, LP.
20200976 | G | GlaxoSmithKline plc; Vir Biotechnology, Inc.; GlaxoSmithKline plc.
20200995 | G | Pfizer Inc.; ATHOS KG; Pfizer Inc.
04/23/2020
20200970 | G | Charlesbank Equity Fund IX, Limited Partnership; News Corporation; Charlesbank Equity Fund IX, Limited Partnership.
04/27/2020
20200987 | G | INTL FCStone Inc.; GAIN Capital Holdings, Inc.; INTL FCStone Inc.
20200991 | G | Verizon Communications Inc.; Blue Jeans Network, Inc.; Verizon Communications Inc.
20200996 | G | Roark Capital Partners V (T) LP; The Cheesecake Factory Incorporated; Roark Capital Partners V (T) LP.
04/29/2020
20200784 | G | Leidos Holdings, Inc.; L3Harris Technologies, Inc.; Leidos Holdings, Inc.

FOR FURTHER INFORMATION CONTACT: Theresa Kingsberry (202-326-3100), Program Support Specialist, Federal Trade Commission Premerger Notification Office, Bureau of Competition, Room CC-5301, Washington, DC 20024.

By direction of the Commission.
April J. Tabor,
Acting Secretary.

[FR Doc. 2020-10883 Filed 5-19-20; 8:45 am]

BILLING CODE 6750-01-P